NATIONAL CREDIT UNION ADMINISTRATION

Agency Information Collection Activities: Proposed Collection; Comment Request; NCUA Profile

AGENCY: National Credit Union Administration (NCUA).

ACTION: Notice and request for comment.

SUMMARY: The National Credit Union Administration (NCUA), as part of a continuing effort to reduce paperwork and respondent burden, invites the general public and other Federal agencies to comment on the following revision, as required by the Paperwork Reduction Act of 1995.

DATES: Written comments should be received on or before January 14, 2020 to be assured consideration.

ADDRESSES: Interested persons are invited to submit written comments on the information collection to Dawn Wolfgang, National Credit Union Administration, 1775 Duke Street, Suite 6032, Alexandria, Virginia 22314; Fax No. 703-519-8579; or Email at PRAComments@NCUA.gov.

FOR FURTHER INFORMATION CONTACT: Address requests for additional information to Dawn Wolfgang at the address above or telephone 703-548-2279.

SUPPLEMENTARY INFORMATION:

OMB Number: 3133-0004. At the time of this notice, NCUA is requesting a separate OMB control number for the Profile. The Call Report will retain OMB control number 3133-0004.

Title: NCUA Profile.

Form: NCUA Form 4501A.

Type of Review: Revision.

Abstract: Sections 106 and 202 of the Federal Credit Union Act require federally insured credit unions (FICU) to make financial reports to the NCUA. Section 741.6 prescribes the method in which federally insured credit unions must submit this information to NCUA. NCUA Form 4501A, Credit Union Profile, is used to obtain non-financial data relevant to regulation and supervision such as the names of senior management and volunteer officials, and are reported through NCUA's online portal, CUOnline.

The financial and statistical information is essential to NCUA in carrying out its responsibility for supervising federal credit unions. The information also enables NCUA to monitor all federally insured credit unions with National Credit Union Share Insurance Fund (NCUSIF) insured share accounts.

Affected Public: Private Sector: Not-for-profit institutions.

Estimated No. of Respondents: 5,308.

Estimated No. of Responses per Respondent: 4.

Estimated Total Annual Responses: 21,232.

Estimated Burden Hours per Response: 2.

Estimated Total Annual Burden Hours: 42,464.

Reason for Change: Revisions include the addition of two questions addressing London Interbank Offered Rate (LIBOR) exposure. These questions are needed to identify FICU that have LIBOR instruments or use LIBOR as a reference rate. Examiners will use this information to assess credit unions' exposure, governance, risk management and readiness related to the discontinuation of the LIBOR index after 2021.

This revision will not alter the estimated burden hours necessary to complete the profile. The information needed to provide a “yes” or “no” response is readily available and NCUA feels that the two hours currently allotted to complete the Form 4501A is sufficient.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on November 8, 2019.
Dated: November 8, 2019.
Dawn D. Wolfgang,
NCUA PRA Clearance Officer.

[FR Doc. 2019-24760 Filed 11-14-19; 8:45 am]

BILLING CODE 7535-01-P